NATIONAL SCIENCE FOUNDATION

Notice of Intent To Seek Approval To Extend a Current Information Collection

AGENCY: National Science Foundation.

ACTION: Notice and request for comments.

SUMMARY: The National Science Foundation (NSF) is announcing plans to request renewal of this collection. In accordance with the requirement of section 3506(c)(2)(A) of the Paperwork Reduction Act of 1995 (Pub. L. 104-13), we are providing opportunity for public comment on this action. After obtaining and considering public comment, NSF will prepare the submission requesting that OMB approve clearance of this collection for three years.

DATES: Written comments on this notice must be received by March 11, 2013 to be assured of consideration. Comments received after that date will be considered to the extent practicable.

FOR ADDITIONAL INFORMATION OR COMMENTS: Contact Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339 between 8:00 a.m. and 8:00 p.m., Eastern Time, Monday through Friday. You also may obtain a copy of the data collection instrument and instructions from Ms. Plimpton.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

SUPPLEMENTARY INFORMATION:

Title of Collection: Higher Education Research and Development Survey.

OMB Control Number: 3145-0100.

Expiration Date of Current Approval: October 31, 2013.

Proposed Renewal Project: The Higher Education Research and Development Survey (formerly known as the Survey of Research and Development Expenditures at Universities and Colleges) originated in fiscal year (FY) 1954 and has been conducted annually since FY 1972. The survey is the academic research and development component of the NSF statistical program that seeks to provide a “central clearinghouse for the collection, interpretation, and analysis of data on the availability of, and the current and projected need for, scientific and technical resources in the United States, and to provide a source of information for policy formulation by other agencies of the federal government,” as mandated by the America COMPETES Reauthorization Act of 2010 § 505, codified in the National Science Foundation Act of 1950, as amended. In recent years, NSF redesigned and expanded the survey to better reflect the current state of academic R&D. The redesigned survey was renamed the Higher Education R&D Survey and pilot tested with a random sample of 40 institutions during the FY 2009 survey cycle. The revised survey began for all institutions with the FY 2010 cycle.

Use of the Information: The proposed project will continue the annual survey cycle for three years. The FY 2013 Higher Education R&D Survey will be administered to an expected minimum of 660 institutions. In addition, a shorter version of the survey asking for R&D expenditures by source of funding and broad field will be sent to approximately 325 institutions spending under $1 million on R&D in their previous fiscal year. Finally, a survey requesting R&D expenditures by source of funds, cost categories (salaries, indirect costs, equipment, etc.), and character of work (basic research, applied research, or development) will be administered to the 39 Federally Funded Research and Development Centers.

The Higher Education R&D Survey will provide continuity of statistics on R&D expenditures by source of funding and field of research, with separate data requested on current fund expenditures for research equipment by field. Further breakdowns are collected on funds passed through to subrecipients and funds received as a subrecipient, and on R&D expenditures by field from specific federal agency sources. As of FY 2010, the survey also requests total R&D expenditures funded from foreign sources, R&D within an institution's medical school, clinical trial expenditures, R&D by type of funding mechanism (contracts vs. grants), R&D funded by the American Recovery and Reinvestment Act of 2009, and R&D by cost category (salaries, equipment, software, etc.). The survey also requests headcounts of principal investigators and other personnel paid from R&D funds, as well as a separate count of postdocs working on R&D.

Data are published in NSF's annual publication series Higher Education Research and Development and are available electronically on the World Wide Web.

The survey is a fully automated Web data collection effort and is handled primarily by administrators in university sponsored programs and accounting offices. To minimize burden, institutions are provided with an abundance of guidance and resources on the Web, and are able to respond via a downloadable excel spreadsheet if desired. Each institution's record is pre-loaded with the 2 previous years of comparable data that facilitate editing and trend checking. Response to this voluntary survey has exceeded 95 percent each year.

The average burden report for the FY 2011 survey was 50 hours for institutions reporting over $1 million in R&D expenditures and 14 hours for those reporting less than $1 million. The burden estimate for the FFRDC survey is 6 hours.

Dated: January 3, 2013.
Suzanne H. Plimpton,
Reports Clearance Officer, National Science Foundation.

[FR Doc. 2013-00188 Filed 1-7-13; 8:45 am]

BILLING CODE 7555-01-P